DEPARTMENT OF STATE

[Public Notice 4870]

Notice of Meeting of the Advisory Committee on International Law

A meeting of the Advisory Committee on International Law will take place on Friday, November 19, 2004, from 10 a.m. to approximately 4 p.m., as necessary, in Room 1105 of the United States Department of State, 2201 C Street, NW., Washington, DC. The meeting will be chaired by the Legal Adviser of the Department of State, William H. Taft, IV, and will be open to the public up to the capacity of the meeting room. The meeting will cover various issues relating to current international legal topics, including the role of the State Department in domestic litigation in light of the Supreme Court's decisions in Republic of Austria v. Altmann and Sosa v. Alvarez-Machain, an update on the work of the International Law Commission, an update on prisoners and detainees, and UN Security Council resolutions on general threats to peace and security.

Entry to the building is controlled and will be facilitated by advance arrangements. Members of the public desiring access to the session should, by Wednesday, November 17, 2004 notify the Office of the Assistant Legal Adviser for United Nations Affairs (telephone (202) 647-2767) of their name, Social Security number, date of birth, professional affiliation, address and telephone number in order to arrange admittance. This includes admittance for government employees as well as others. All attendees must use the “C” Street entrance. One of the following valid IDs will be required for admittance: any U.S. driver's license with photo, a passport, or a U.S. Government agency ID. Because an escort is required at all times, attendees should expect to remain in the meeting for the entire morning or afternoon session.

Dated: October 27, 2004.
Judith L. Osborn,
Attorney-Adviser, Office of United Nations Affairs, Office of the Legal Adviser, Executive Director, Advisory Committee on International Law, Department of State.

[FR Doc. 04-24548 Filed 11-2-04; 8:45 am]

BILLING CODE 4710-08-P